NUCLEAR REGULATORY COMMISSION

Independent External Review Panel To Identify Vulnerabilities in the U.S. Nuclear Regulatory Commission's Materials Licensing Program: Meeting Notice

AGENCY: U.S. Nuclear Regulatory Commission.

ACTION: Notice of meeting.

SUMMARY: NRC will convene a meeting of the Independent External Review Panel To Identify Vulnerabilities in the U.S. Nuclear Regulatory Commission's (NRC) Materials Licensing Program on February 19 through 21, 2008. A copy of the agenda for the meeting can be obtained by e-mailing Mr. Aaron T. McCraw at the contact information below.

Purpose: To initiate the Panel's discussions and deliberations in developing their final report and to allow members of the public an opportunity to provide comments to the Panel on its draft report. The Panel's draft report will be publicly available no later than Monday, February 11, 2008, and will be located in the NRC's Agencywide Document Access and Management System (ADAMS) using Accession Number ML080230554.

Date and Time for Closed Sessions: There will be no closed sessions during this meeting.

Date and Time for Open Session: February 19, 2008, from 2 p.m. to 4:30 p.m; February 20, 2008, from 9 a.m. to 4:30 p.m.; and February 21, 2008, from 9 a.m. to 12 p.m.

Address for Public Meeting: U.S. Nuclear Regulatory Commission, Two White Flint North Building, 11545 Rockville Pike, Rockville, Maryland 20852. Specific room locations will be indicated on the agenda.

Public Participation: Any member of the public who wishes to participate in the meeting should contact Mr. McCraw using the information below.

FOR FURTHER INFORMATION CONTACT: Aaron T. McCraw, e-mail: atm@nrc.gov, telephone: (301) 415-1277.

Conduct of the Meeting

Mr. Thomas E. Hill will chair the meeting. Mr. Hill will conduct the meeting in a manner that will facilitate the orderly conduct of business. The following procedures apply to public participation in the meeting:

1. Persons who wish to provide a written statement should submit an electronic copy to Mr. McCraw at the contact information listed above. All submittals must be received by February 15, 2008, and must pertain to the topics on the agenda for the meeting.

2. Questions and comments from members of the public will be permitted during the meeting, at the discretion of the Chairman.

3. The transcript and written comments will be available for inspection at the NRC Public Document Room, 11555 Rockville Pike, Rockville, Maryland 20852-2738, telephone (800) 397-4209, on or about June 1, 2008.

4. Persons who require special services, such as those for the hearing impaired, should notify Mr. McCraw of their planned attendance.

This meeting will be held in accordance with the Atomic Energy Act of 1954, as amended (primarily Section 161a); the Federal Advisory Committee Act (5 U.S.C. App); and the Commission's regulations in Title 10, U.S. Code of Federal Regulations, Part 7.

Dated: January 31, 2008.
Andrew L. Bates,
Advisory Committee Management Officer.

[FR Doc. E8-2144 Filed 2-5-08; 8:45 am]

BILLING CODE 7590-01-P